DEPARTMENT OF ENERGY

Federal Energy Regulatory Commission

[Docket No. RP00-241-000]

Public Utilities Commission of the State of California v. El Paso Natural Gas Company, El Paso Merchant Energy Gas, L.P. and El Paso Merchant Energy Company; Notice Regarding Release Information

June 10, 2003.

On May 9, 2003, in Docket No. RP00-241-000, the Commission issued an Order Directing the Release of Information, which released all privileged or protected information in the record. 103 FERC ¶ 61,154. Take notice that several of the documents released have been classified as “non-internet public” and, although publicly available, will not be available on the internet. These public files are accessible to a requester by mail or in person through the Public Reference Room. You may examine and copy documents from the Commission's public files at the Public Reference Room, Room 2A, 888 First Street, NE., Washington, DC 20426, between the hours of 8:30 a.m. and 5 p.m., Monday through Friday. You may also request public documents from the Public Reference Room by mail, by fax at (202) 502-8317, or by e-mail at public.reference@ferc.gov. All document requests must be in writing. As provided in the Commission's regulations at 18 CFR 388.109(a)(4), the charge for documents is 20 cents per page.

This notice is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659.

Magalie R. Salas,
Secretary.

[FR Doc. 03-15176 Filed 6-16-03; 8:45 am]

BILLING CODE 6717-01-P